FEDERAL COMMUNICATIONS COMMISSION

47 CFR Part 73

[DA 01-1766, MM Docket No. 00-116, RM-9877]

Digital Television Broadcast Service; Kansas City, MO

AGENCY: Federal Communications Commission.

ACTION: Final rule.

SUMMARY: The Commission, at the request of KMBC Hearst-Argyle Television, licensee of station KMBC(TV), substitutes DTV channel 7 for DTV channel 14 at Kansas City, Missouri. See 65 FR 41035, July 3, 2000. DTV channel 7 can be allotted to Kansas City in compliance with the principle community coverage requirements of Section 73.625(a) at reference coordinates (39-05-01 N. and 94-30-57 W.) with a power of 115, HAAT of 357 meters and with a DTV service population of 2086 thousand.

With is action, this proceeding is terminated.

DATES: Effective September 10, 2001.

FOR FURTHER INFORMATION CONTACT: Pam Blumenthal, Mass Media Bureau, (202) 418-1600.

SUPPLEMENTARY INFORMATION: This is a synopsis of the Commission's Report and Order, MM Docket No. 00-116, adopted July 24, 2001, and released July 27, 2001. The full text of this Commission decision is available for inspection and copying during normal business hours in the FCC Reference Center 445 12th Street, SW., Washington, DC. The complete text of this decision may also be purchased from the Commission's copy contractor, International Transcription Services, Inc., (202) 857-3800, 1231 20th Street, NW., Washington, DC 20036.

List of Subjects in 47 CFR Part 73

Television, Digital television broadcasting.

Part 73 of Title 47 of the Code of Federal Regulations is amended as follows:

PART 73—[AMENDED]

1. The authority citation for Part 73 continues to read as follows:

Authority: 47 U.S.C. 154, 303, 334 and 336.

§ 73.622 [Amended]

2. Section 73.622(b), the Table of Digital Television Allotments under Missouri, is amended by removing DTV channel 14 and adding DTV channel 7 at Kansas City.

Federal Communications Commission.
Barbara A. Kreisman,
Chief, Video Services Division, Mass Media Bureau.

[FR Doc. 01-19148 Filed 7-31-01; 8:45 am]

BILLING CODE 6712-01-U